DEPARTMENT OF JUSTICE

Notice of Lodging of Proposed Consent Decree Under the Comprehensive Environmental Response, Compensation, and Liability Act

On May 3, 2018, the Department of Justice lodged a Consent Decree with defendant Buckingham County Board of Supervisors on behalf of Buckingham County, a political sub-division of the Commonwealth of Virginia (“Buckingham County”) in the United States District Court for the Western District of Virginia. The Consent Decree resolves a claim under Section 107 of the Comprehensive Environmental Response, Compensation, and Liability Act (“CERCLA”), 42 U.S.C. 9607, for past and future response costs incurred in connection with the release of hazardous substances at the Buckingham County Landfill Superfund Site (“Site”), located in Dillwyn, Buckingham County, Virginia. The Complaint filed concurrently with the Consent Decree alleges that Buckingham County, who is the current owner of the Site, is liable for all costs of removal or remedial action incurred by the United States Government. The proposed Consent Decree obligates Buckingham County to reimburse $125,000 of the United States' past response costs.

The publication of this notice opens a period for public comment on the Consent Decree. Comments should be addressed to the Acting Assistant Attorney General, Environment and Natural Resources Division, and should refer to United States v. Buckingham County Board of Supervisors on behalf of Buckingham County, a political sub-division of the Commonwealth of Virginia, Civil Action No. 6:18-cv-00057 (W.D. Va.), DOJ number 90-11-2-07971/3. All comments must be submitted no later than 30 days after the publication date of this notice. Comments may be submitted either by email or by mail:

To submit comments: | Send them to:
By email | pubcomment-ees.enrd@usdoj.gov.
By mail | Acting Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $7.00 (25 cents per page reproduction cost) payable to the United States Treasury. For a paper copy without the exhibits and signature pages, the cost is $4.25.

Susan M. Akers,
Assistant Section Chief, Environmental Enforcement Section, Environment and Natural Resources Division.

[FR Doc. 2018-10092 Filed 5-10-18; 8:45 am]

BILLING CODE 4410-15-P